FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
20-SEP-10 | 20101032 | G | Hewlett-Packard Company.
|  | G | Fortify Software, Inc.
|  | G | Fortify Software, Inc.
| 20101047 | G | International Business Machines Corporation.
|  | G | Unica Corporation.
|  | G | Unica Corporation.
| 20101054 | G | Kindred Healthcare, Inc.
|  | G | Vista Healthcare Holdings, LLC.
|  | G | Vista Hospital of South Bay, LLC.
|  | G | Vista Healthcare, LLC.
|  | G | Vista Hospital of South Bay, LP.
|  | G | Perris Valley Community Hospital, LLC.
|  | G | Vista Specialty Hospital of Southern California, LP.
|  | G | Rancho Cucamonga Community Hospital, LLC.
|  | G | South Bay Community Hospital, Inc.
| 2010193 | G | Welsh, Carson, Anderson & Stowe XI, L.P.
|  | G | Seaport Capital Partners II, L.P.
|  | G | Peak 10, Inc.
| 20101114 | G | Bain Capital Fund X, L.P.
|  | G | Brockway Moran & Partners Fund II, L.P.
|  | G | Air Medical Group Holdings, Inc.
21-SEP-10 | 20101071 | G | Finlav S.p.A.
|  | G | Green Mountain Coffee Roasters, Inc.
|  | G | Green Mountain Coffee Roasters, Inc.
| 20101101 | G | W. Galen Weston.
|  | G | Kent P. Dauten.
|  | G | Keystone Bakery Holdings, LLC.
22-SEP-10 | 20101104 | G | HealthSpring, Inc.
|  | G | Bravo Health, Inc.
|  | G | Bravo Health, Inc.
23-SEP-10 | 20100928 | G | Coventry Health Care, Inc.
|  | G | Sisters of Mercy Health System.
|  | G | MHP, Inc.
| 20101035 | G | BHP Billiton Limited.
|  | G | Potash Corporation of Saskatchewan Inc.
|  | G | Potash Corporation of Saskatchewan Inc.
| 20101036 | G | BHP Billiton Plc.
|  | G | Potash Corporation of Saskatchewan Inc.
|  | G | Potash Corporation of Saskatchewan Inc.
| 20101124 | G | Taleo Corporation.
|  | G | James Barrett Riley.
|  | G | Learn.com, Inc.
| 20101130 | G | Targa Resources Partners LP.
|  | G | Targa Resources Investments Inc.
|  | G | Targa Capital LLC.
24-SEP-10 | 20101110 | G | The Veritas Capital Fund III, L.P.
|  | G | PerkinElmer, Inc.
|  | G | PerkinElmer Sensors, Inc.
| 20101131 | G | Hellman & Friedman Capital Partners VI, L.P.
|  | G | AMH Holdings II, Inc.
|  | G | AMH Holdings II, Inc.
| 20101132 | G | ProAssurance Corporation.
|  | G | American Physicians Service Group, Inc.
|  | G | American Physicians Service Group, Inc.
| 20101135 | G | Protective Life Corporation.
|  | G | Torchmark Corporation.
|  | G | United Investors Life Insurance Company.
| 20101136 | G | Partners Limited.
|  | G | Prime Infrastructure Holdings Limited.
|  | G | Prime Infrastructure Holdings Limited.
| 20101139 | G | TreeHouse Foods, Inc.
|  | G | Windjammer Senior Equity Fund III, L.P.
|  | G | STSF Holdings, Inc.
| 20101143 | G | 3G Special Situations Fund II, L.P.
|  | G | Burger King Holdings, Inc.
|  | G | Burger King Holdings, Inc.
| 20101144 | G | Prestige Brands Holdings, Inc.
|  | G | Charlesbank Equity Fund VII, Limited Partnership.
|  | G | Blacksmith Brands Holdings, Inc.
| 20101156 | G | Clayton, Dubilier & Rice Fund VIII, L.P.
|  | G | Ulysses Participation S.a.r.l.
|  | G | Univar, Inc.
27-SEP-10 | 20101076 | G | World Fuel Services Corporation.
|  | G | Western Petroleum Company.
|  | G | Western Petroleum Company.
| 20101125 | G | IASIS Investment LLC.
|  | G | Brim Holding Company, Inc.
|  | G | Brim Holding Company, Inc.
| 20101149 | G | Constellation Energy Group, Inc.
|  | G | CPower, Inc.
|  | G | CPower, Inc.
28-SEP-10 | 20101111 | G | Intel Corporation.
|  | G | Colville Ventures LLC.
|  | G | Colville Ventures LLC.
| 20101112 | G | General Electric Company.
|  | G | Colville Ventures LLC.
|  | G | Colville Ventures LLC.
| 20101147 | G | ConocoPhillips.
|  | G | Apache Corporation.
|  | G | ZPZ Delaware I LLC.
| 20101154 | G | Occidental Petroleum Corporation.
|  | G | ConocoPhillips.
|  | G | ConocoPhillips Company.

FOR FURTHER INFORMATION CONTACT: Sandra M. Peay, Contact Representative, or Renee Chapman, Contact Representative, Federal Trade Commission, Premerger Notification Office, Bureau of Competition, Room H-303, Washington, DC 20580, (202) 326-3100.

By direction of the Commission.
Donald S. Clark,
Secretary.

[FR Doc. 2010-26818 Filed 10-25-10; 8:45 am]

BILLING CODE 6750-01-M